DEPARTMENT OF DEFENSE

Office of the Secretary

Termination of the Vietnam War Commemoration Advisory Committee

AGENCY: Department of Defense.

ACTION: Termination of federal advisory committee.

SUMMARY: The Department of Defense is publishing this notice to announce that it is terminating the Vietnam War Commemoration Advisory Committee (“the Committee”), effective June 30, 2019.

FOR FURTHER INFORMATION CONTACT: Jim Freeman, Advisory Committee Management Officer for the Department of Defense, 703-692-5952.

SUPPLEMENTARY INFORMATION: The Committee is being terminated under the provisions of the Federal Advisory Committee Act (FACA) of 1972 (5 U.S.C., Appendix) and 41 CFR 102-3.55, and the Government in the Sunshine Act of 1976 (5 U.S.C. 552b), effective June 30, 2019.

Dated: May 15, 2019.
Aaron T. Siegel,
Alternate OSD Federal Register Liaison Officer, Department of Defense.

[FR Doc. 2019-10446 Filed 5-17-19; 8:45 am]

BILLING CODE 5001-06-P